DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2002, there were 10 applications approved. This notice also includes information on one application, approved in September 2001, inadvertently left off the September 2001 notice. Additionally, 14 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Texarkana, Arkansas.

Application Number: 01-03-C-00-TXK.

Application Type: Impose and use a PFC.

PFC Level: $4.50.

Total PFC Revenue Approved in this Decision: $125,891.

Earliest Charge Effective Date: August 1, 2004.

Estimated Charge Expiration Date: June 1, 2005.

Class of Air Carriers not Required to Collect PFC's: None.

Brief Description of Projects Approved for Collection and Use at a $4.50 PFC Level:

Enclose drainage ditch.

Rehabilitate apron.

Rehabilitate runway 4/22 lighting.

Acquire airfield sweeper.

PFC administrative costs.

Decision Date: September 13, 2001.

For Further Information Contact: G. Thomas Wade, Southwest Region Airports Division, (817) 222-5613.

Public Agency: City of Phoenix, Arizona.

Application Number: 02-06-C-00-PHX.

Application Type: Impose and use a PFC.

PFC Level: $4.50.

Total PFC Revenue Approved in this Decision: $221,402,900.

Earliest Charge Effective Date: July 1, 2002.

Estimated Charge Expiration Date: November 1, 2005.

Classes of Air Carriers not Required to Collect PFC's:

(1) Nonscheduled/on-demand air carriers filing FAA Form 1800-31; (2) commuters or small certificated air carriers filing Department of Transportation Form 298-C T1 or E1 with less than 7,500 annual enplanements; (3) large certificated route air carriers filing Research and Special Programs Administration Form T-100 with less than 7,500 annual enplanements.

Determination: Approved. Based on information contained in the public agency's application, the FAA has determined that each proposed class accounts for less than 1 percent of the total annual enplanements at Phoenix Sky Harbor International Airport.

Brief Description of Project Approved for Collection and Use at a $4.50 PFC Level: Complete third runway (7R-25L) and associated projects.

Brief Description of Projects Partially Approved for Collection and Use at a $4.50 PFC Level: Rebuild center runway (7L-25R) and associated projects.

Determination: Partially approved. The approved amount was reduced from that requested due to the public agency's receipt of additional Airport Improvement Program (AIP) funds. Residential sound assistance program.

Determination: Partially approved. The approved amount was reduced from that requested due to the public agency's receipt of PFC funds from an early application to partially fund this project.

Brief Description of Projects Approved for Collection and Use at a $3.00 PFC Level.

Community noise reduction program (voluntary land acquisition/property exchange).

Automated people mover-design only.

Brief Description of Withdrawn Projects:

Capital security improvement.

Operating security improvement.

Determination: These projects were withdrawn by the public agency by letter dated June 3, 2002. Therefore the FAA did not rule on these projects in this determination.

Decision Date: June 5, 2002.

For Further Information Contact: Kevin Flynn Western Pacific Region Airports Division, (310) 725-3632.

Public Agency: City of Saint Louis Airport Authority, Saint Louis, Missouri.

Application Number: 01-07-C-00-STL

Application Type: Impose and use a PFC.

PFC Level: $4.50.

Total PFC Revenue Approved in this Decision: $99,103,000.

Earliest Charge Effective Date: January 1, 2014.

Estimated Charge Effective Date: March 1, 2015.

Classes of Air Carriers Not Required to Collect PFCS: Air taxi/commercial operators filing FAA Form 1800-31.

Determination: Approved. Based on information contained in the public agency's application, the FAA has determined that the proposed class accounts for less than 1 percent of the total annual enplanements at Lambert-St. Louis International Airport.

Brief Description of Projects Approved for Collection and Use at a $4.50 PFC Level:

New runway, taxiway, perimeter road, and security fences.

New west aircraft rescue and firefighting building.

Taxiway delta improvements.

Brief Description of Projects Approved for Collection and Use at a $3.00 PFC Level:

Northeast quadrant roads.

Deicing pads and glycol recovery.

Terminal improvements (Federal Inspection Service facility)

Concourse improvements.

Decision Date: June 11, 2002.

For Further Inforamtion Contact: Lorna Sandridge, Central Regional Airports Division, (816) 329-2641.

Public Agency: City of Fayetteville, North Carolina.

Application Number: 02-02-U-00-FAY.

Application Type: Use PFC revenue.

PFC Level: $3.00.

Total PFC Revenue to be Used in this Decision: $468,918.

Charge Effective Date: November 1, 2000.

Estimated Charge Expiration Date: November 1, 2005.

Class of Air Carriers Not Required to Collect PFCS: No change from previous decision.

Brief Description of Projects Approved for Use:

North general aviation ramp.

Security system upgrade, phase II.

Runway safety area 4 improvements, phase I.

Acquire land—runway 4 approaches.

Renovate terminal, phase II.

Runway safety area 4 improvements, phase II.

Land acquisition—runway 22 approaches.

Renovate terminal, phase III.

Construct runway safety area, runway 22.

Acquire land—runway 4/22 runway safety area.

Construct non-licensed vehicle road.

Construct jet bridge modification.

Construct taxiway K.

Decision Date: June 18, 2002.

For Further Information Contact: Tracie D. Kleine, Atlanta Airports District Office, (404) 305-7148.

Public Agency: Jackson-Madison County Airport Authority, Jackson, Tennessee.

Application Number: 02-01-C-00-MKL.

Application Type: Impose and use a PFC.

PFC Level: $4.50.

Total PFC Revenue Approved in this Decision: $332,248.

Earliest Charge Effective Date: October 1, 2002.

Estimated Charge Expiration Date: June 1, 2010.

Classes of Air Carriers Not Required to Collect PFC's: Non-scheduled/on-demand air carriers filing FAA Form 1800-31.

Determination: Approved. Based on information contained in the public agency's application, the FAA had determined that the proposed class accounts for less than 1 percent of the total annual enplanements at McKeller-Sipes Airport.

Brief Description of Projects Approved for Collection and Use:

Master plan update.

Aircraft rescue and firefighting vehicle.

Taxiway B construction.

Taxiway B rehabilitation.

West apron rehabilitation.

Taxiway lighting rehabilitation.

Localizer fence replacement.

Drainage improvements (design).

Apron expansion (phase 1).

Airfield drainage rehabilitation.

Terminal building improvements.

Land acquisition in approach.

Apron expansion (phase 2).

Precision approach path indicator installation.

Airfield signage installation.

Airfield lighting rehabilitation.

Airfield drainage improvements.

Rotating beacon relocation.

Taxiway C overlay.

Terminal building heating, ventilation, and air conditioning replacement.

Runway 2/20 pavement rehabilitation.

Runway safety area improvements.

Runway safety area improvements (phase 2).

PFC administration costs.

Decision Date: June 18, 2002.

For Further Information Contact: Peggy S. Kelly, Memphis Airports District Office, (901) 544-3495, ext. 19.

Public Agency: Hillsborough County Aviation Authority, Tampa, Florida.

Application Number: 02-05-C-00-TPA.

Application Type: Impose and use a PFC.

PFC Level: $4.50.

Total PFC Revenue Approved in this Decision: $135,782,200.

Earliest Charge Effective Date: September 1, 2002.

Estimated Charge Expiration Date: July 1, 2006.

Class of Air Carriers Not Required to Collective PFC'S:

On-demand air taxi/commercial operators that (1) do not enplane or deplane passengers at the main passenger terminal buildings, or (2) enplane less than 500 passengers per year at Tampa International Airport (TPA).

Determination: Approved. Based on information contained in the public agency's application, the FAA has determined that the proposed class accounts for less than 1 percent of the total annual enplanements at TPA.

Brief Description of Project Approved for Collection and Use At A $4.50 PFC Level: Airside E development.

Brief Description of Projects Approved for Collection and Use At A $3.00 PFC Level:

Departure level expansion and modernization.

Purchase passenger loading bridges.

Taxiway J extension.

North Hillsborough property acquisition.

Brief Description of Withdrawn Project: Reconstruct a portion of taxiway A.

Determination: This project was withdrawn by the public agency by letter dated February 18, 2002. Therefore, the FAA will not rule on this project in this decision.

Decision Date: June 19, 2002.

For Further Information Contact: Vernon P. Rupinta, Orlando Airports District Office, (407) 812-6331

Public Agency: Country of Brown, Green Bay, Wisconsin.

Application Number: 02-04-C-00-GRB.

Application Type: Impose and use a PFC.

PFC Level: $4.50.

Total PFC Revenue Approved in this Decision: $528,943.

Earliest Charge Effective Date: October 1, 2002.

Estimated Charge Expiration Date: February 1, 2003.

Class of Air Carriers Not Required to Collect PFC's: Part 135 air taxi/commercial operators.

Determination: Approved. Based on information contained in the public agency's application, the FAA has determined that the approved class accounts for less than 1 percent of the total annual enplanements at Austin Straubel International Airport.

Brief Description of Project Approved for Collection and Use: Terminal entrance road expansion.

Decision Date: June 19, 2002.

For Further Information Contact: Daniel J. Milenacker, Minneapolis Airports District Office, (612) 713-4359.

Public Agency: City of Texarkana, Arkansas.

Application Number: 02-04-C-00-TXK.

Application Type: Impose and use a PFC.

PFC Level: $4.50.

Total PFC Revenue Approved in this Decision: $63,855.

Earliest Charge Effective Date: June 1, 2005.

Estimated Charge Expiration Date: October 1, 2005.

Class of Air Carriers Not Required to collect PFC's: None.

Brief Description of Project Approved for Collection and Use: Improve runway 31 safety area.

Decision Date: June 24, 2002.

For Further Information Contact: G. Thomas Wade, Southwest Region Airports Division, (817) 222-5613.

Public Agency: County of Gregg, Longview, Texas.

Application Number: 02-02-C-00-GGG.

Application Type: Impose and use a PFC.

PFC Level: $3.00.

Total PFC Revenue Approved in this Decision: $699,232.

Earliest Charge Effective Date: September 1, 2002.

Estimated Charge Expiration Date: May 1, 2011.

Class of Air Carriers Not Required to Collect PFC's:

Air taxi/commercial operators operating under part 135 and required to file FAA Form 1800-31.

Determination: Approved. Based on information contained in the public agency's application, the FAA has determined that the approved class accounts for less than 1 percent of the total annual enplanements at East Texas Regional Airport.

Brief Description of Projects Approved for Collection and Use:

Renovate aircraft rescue and firefighting station, phase I.

Reconstruct terminal apron, phase IV.

Renovate aircraft rescue and firefighting station phase II.

Reconstruct terminal apron, phase V.

Runway safety area improvements.

Construct taxiway M and associated development.

Electrical improvements.

Taxiway pavement study.

Convert runway 4/22 to taxiway N.

Administrative expenses.

Decision Date: June 24, 2002.

For Further Information Contact: G. Thomas Wade, Southwest Region Airports Division, (817) 222-5613.

Public Agency: City of Lubbock, Texas.

Application Number: 02-04-C-00-LBB.

Application Type: Impose and use a PFC.

PFC Level: $3.00

Total PFC Revenue Approved in this Decision: $3,220,308.

Earliest Charge Effective Date: September 1, 2002.

Estimated Charge Expiration Date: November 1, 2004.

Class of Air Carriers Not Required To Collect PFC's: (1) Air taxi/commercial operators operating under part 135 certificate and filing FAA Form 1800-31; and (2) air carriers filing Research and Special Programs Form 298C, schedule E1 or T1.

Determination: Approved. Based on information contained in the public agency's application, the FAA has determined that each approved class accounts for less than 1 percent of the total annual enplanements at Lubbock International Airport.

Brief Description of Projects Approved for Use:

Westport apron and taxiway expansion.

Construct high-speed taxiway B-1.

Acquire Americans with Disabilities Act aircraft access.

Brief Description of Projects Approved for Collection and Use:

Construct aircraft rescue and firefighting training facility.

Install aircraft guidance signs.

Acquire 1,500-gallon aircraft rescue and firefighting truck.

Update airport master plan.

Reconstruct and expand general aviation apron.

Construct blast wall.

Brief Description of Project Approved for Collection: Acquire 254 acres for development.

Decision Date: June 26, 2002.

For Further Information Contact:

G. Thomas Wade, Southwest Region Airports Division, (817) 222-5613.

Public Agency: New Orleans Aviation Board, New Orleans, Louisiana.

Application Number: 02-06-C-00-MSY.

Application Type: Impose and use a PFC.

PFC Level: $4.50

Total PFC Revenue Approved in This Decision: $148,375,724.

Earliest Charge Effective Date: April 1, 2005.

Estimated Charge Expiration Date: January 1, 2012.

Class of Air Carriers Not Required To Collect PFC's: Air taxi/commercial operators.

Determination: Approved. Based on information contained in the public agency's application, the FAA has determined that the proposed class accounts for less than 1 percent of the total annual enplanements at Louis Armstrong New Orleans International Airport.

Brief Description of Projects Approved for Collection and Use at a $4.50 PFC Level:

Airfield lighting control vault alternative power source.

Airfield safety improvement program—north canal enclosure.

Airport trench drains.

Concourse C reconstruction.

Environmental impact study for new air carrier runway.

Expansion of concourse D.

New access control and security badging systems.

New aircraft rescue and firefighting station.

Rehabilitate runway 1/19.

Rehabilitate taxiway Sierra.

Rehabilitate runway 10/28.

Rehabilitate rotating beacon.

Terminal apron rehabilitation.

Brief Description of Projects Approved for Collection and Use at a $3.00 PFC Level:

Aircraft loading bridges.

Benefit cost analysis for new air carrier runway.

South Lafon Airpark land purchase.

Terminal heating, ventilation, and air conditioning rehabilitation.

West air cargo complex land acquisition program.

Decision Date: June 27, 2002.

For Further Information Contact:

G. Thomas Wade, Southwest Region Airports Division, (817) 222-5613.

Amendments to PFC Approval
Amendment No., City, State | Amendment approved, date | Original approved net PFC, revenue | Amended approved net PFC, revenue | Original estimated charge, exp. date | Amended estimated chage, exp. date
99-01-C-01-ACY, Atlantic City, NJ | 05/13/02 | $7,224,348 | $7,333,485 | 03/01/04 | 07/01/05
98-03-C-01-FAR, Fargo, ND | 05/16/01 | 1,341,857 | 1,468,938 | 09/01/02 | 07/01/02
00-02-C-03-SWF, Newburg, NY | 06/03/02 | 6,308,000 | 6,833,600 | 08/01/05 | 11/01/05
99-01-C-02-ACY, Atlantic City, NJ | 06/05/02 | 7,333,485 | 7,633,735 | 07/01/05 | 09/01/05
01-03-C-01-LYH, Lynchburg, VA | 06/06/02 | 844,951 | 705,654 | 01/01/05 | 06/01/05
*02-05-C01-BGM, Binghamton, NY | 06/11/01 | 1,445,438 | 1,508,873 | 10/01/06 | 08/01/05
96-01-C-02-RDD, Redding, CA | 06/14/02 | 920,000 | 1,009,264 | 07/01/02 | 12/01/02
96-01-C-01-MBS, Saginaw, MI | 06/14/02 | 1,400,000 | 874,682 | 12/01/98 | 05/01/98
98-02-C-01-MBS, Saginaw, MI | 06/14/02 | 812,050 | 438,614 | 01/01/00 | 11/01/98
96-02-C-02-PLB, Plattsburgh, NY | 06/19/02 | 64,725 | 62,455 | 7/01/99 | 10/01/98
00-10-C-02-BDL, Windsor Locks, CT | 06/26/02 | 1,869,103 | 1,870,469 | 08/01/00 | 08/01/00
00-10-C-03-BDL, Windsor Locks, CT | 06/26/02 | 1,870,469 | 1,894,805 | 08/01/00 | 08/01/00
95-01-C-BGR, Bangor, ME | 06/26/02 | 8,742,415 | 8,961,006 | 05/01/05 | 09/01/10
*97-01-C-02-ABI, Abilene, TX | 06/26/02 | 2,008,611 | 2,008,611 | 01/01/15 | 07/01/08
(Note: The amendments denoted by an asterisk (*) include a change to PFC level charged from $3.00 per enplaned passenger to $4.50 per enplaned passenger. For Binghamton, NY and Abilene, TX, this change is effective on September 1, 2002.)

Issued in Washington, DC on September 18, 2002.
Barry Molar,
Manager, Airports Financial Assistance Division

[FR Doc. 02-25321 Filed 10-3-02; 8:45 am]

BILLING CODE 4910-13-M